DEPARTMENT OF ENERGY

Federal Energy Regulatory Commission

Combined Notice of Filings #2

Take notice that the Commission received the following electric rate filings:

Docket Numbers: ER17-2540-000.

Applicants: Imperial Valley Solar 1, LLC.

Description: § 205(d) Rate Filing: Certificate of Concurrence Solar 3 to be effective 9/25/2017.

Filed Date: 9/22/17.

Accession Number: 20170922-5090.

Comments Due: 5 p.m. ET 10/13/17.

Docket Numbers: ER17-2541-000.

Applicants: Estill Solar I, LLC.

Description: Baseline eTariff Filing: MBR Application to be effective 11/22/2017.

Filed Date: 9/22/17.

Accession Number: 20170922-5093.

Comments Due: 5 p.m. ET 10/13/17.

Docket Numbers: ER17-2542-000.

Applicants: Northern States Power Company, a Minnesota corporation.

Description: § 205(d) Rate Filing: 2017-9-22 NSP-MGE-LBA Filing-0.0.0-650 to be effective 11/22/2017.

Filed Date: 9/22/17.

Accession Number: 20170922-5116.

Comments Due: 5 p.m. ET 10/13/17.

Docket Numbers: ER17-2543-000.

Applicants: Southwest Power Pool, Inc.

Description: § 205(d) Rate Filing: 2415R8 KMEA NITSA NOA and Cancellation of Westar NITSA NOA SA 2390 to be effective 9/1/2017.

Filed Date: 9/22/17.

Accession Number: 20170922-5120.

Comments Due: 5 p.m. ET 10/13/17.

Docket Numbers: ER17-2544-000.

Applicants: Northern States Power Company, a Wisconsin corporation.

Description: § 205(d) Rate Filing: 2017-9-22 NSPW Concur to NSPM MGE LBA Filing-0.0.0-650 to be effective 11/22/2017.

Filed Date: 9/22/17.

Accession Number: 20170922-5122.

Comments Due: 5 p.m. ET 10/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 22, 2017.
Nathaniel J. Davis, Sr.,
Deputy Secretary.

[FR Doc. 2017-20996 Filed 9-29-17; 8:45 am]

BILLING CODE 6717-01-P